DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before April 24, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on March 06, 2023.
Donald P. Burger,
Chief, General Approvals and Permits Branch.

Application No. | Applicant | Regulation(s) affected | Nature of the special permits thereof
Special Permits Data—Granted
16572-M | Samsung Austin Semiconductor, LLC | 173.158(f) | To modify the special permit to authorize a Division 5.1 subsidiary hazard for the hazardous material.
21353-N | Lanxess Canada Co | 173.24(f)(1)(i), 173.32(e)(1) | To authorize the transportation in commerce of a defective portable tank, containing a residue of a Division 4.2 material, via motor vehicle.
21407-N | Toyota Motor Corporation | 173.185(a)(1) | To authorize the transportation in commerce of prototype lithium batteries via cargo-only aircraft.
21409-N | Evonik Corporation | 172.407(c)(1) | To authorize the transportation in commerce of certain oxidizers where the labels are less than 100 mm by 100 mm.
21428-N | Livewire EV LLC | 172.101(j), 173.220(d), 173.185(a)(1) | To authorize the transportation in commerce of prototype lithium batteries, and those installed in vehicles, via cargo-only aircraft.
21457-N | Astra Space Operations, Inc | 173.302a(a)(1) | To authorize the transportation in commerce of non-DOT specification cylinders incorporated into a propellant management system within a spacecraft (satellite).
21458-N | Astra Space Operations, Inc | 173.302 | To authorize the transportation in commerce of non-DOT specification cylinders incorporated into a propellant management system within a spacecraft (satellite).
21460-N | Amerex Corporation | 173.309(c) | To authorize the transportation in commerce of non-specification cylinders exceeding 900 mL in capacity and containing a liquefied gas as fire extinguishers.
21467-N | General Motors LLC | 172.101(j) | To authorize the transportation in commerce of lithium ion battery assemblies exceeding 35 kg net weight aboard cargo-only aircraft.
21505-N | National Air Cargo Group, Inc | 172.204(c)(3), 172.101(j), 173.27(b)(2), 173.27(b)(3), 175.30(a)(1) | To authorize the transportation in commerce by cargo only aircraft of Class 1 explosives which are forbidden or exceed quantities presently authorized.
21514-N | National Aeronautics and Space Administration | 173.301(a)(1), 173.301(h)(3), 173.302(a)(1), 173.302(f)(1) | To authorize the transportation in commerce of filled non-DOT specification cylinders without pressure relief devices.
Special Permits Data—Denied
21508-N | Versum Materials US, LLC | 172.204(c)(3), 172.101(j)(1), 173.27(b)(2) | To authorize the transportation of certain hazardous materials forbidden aboard cargo-only aircraft.
Special Permits Data—Withdrawn

[FR Doc. 2023-06052 Filed 3-23-23; 8:45 am]

BILLING CODE 4910-60-P